DEPARTMENT OF JUSTICE

Notice of Lodging of Proposed Consent Decree Under the Clean Air Act

On May 14, 2015, the Department of Justice lodged a proposed Consent Decree with the United States District Court for the Central District of Illinois in the lawsuit entitled United States v. Enviro-Safe Refrigerants, Inc., Civil Action No. 1:15-cv-1196.

The United States of America, on behalf of the United States Environmental Protection Agency (“EPA”), filed a claim against Defendant Enviro-Safe Refrigerants, Inc. (“Enviro-Safe”) to obtain injunctive relief and civil penalties pursuant to Clean Air Act Sections 113 and 612, and the Significant New Alternatives Policy program regulations promulgated at 40 CFR part 82, subpart G §§ 82.170-82.184 (commonly known as the “SNAP” program). The United States alleged that Enviro-Safe had marketed and sold flammable hydrocarbon refrigerants as direct replacements for ozone-depleting substances without providing the requisite information to EPA regarding such products. In resolving the United States' claims against Enviro-Safe, the proposed Decree requires a payment of $300,000 in civil penalty and imposes various restrictions on Enviro-Safe's future marketing activities to compel compliance with both the specific language and underlying intent of the SNAP regulations.

The publication of this notice opens a period for public comment on the Consent Decree. Comments should be addressed to the Assistant Attorney General, Environment and Natural Resources Division, and should refer to United States v. Enviro-Safe Refrigerants, Inc., D.J. Ref. No. 90-5-2-1-11014. All comments must be submitted no later than 30 days after the publication date of this notice. Comments may be submitted either by email or by mail:

To submit comments: | Send them to:
By email | pubcomment-ees.enrd@usdoj.gov.
By mail | Assistant Attorney General, U.S. DOJ—ENRD, P.O. Box 7611, Washington, DC 20044-7611.

During the public comment period, the Consent Decree may be examined and downloaded at this Justice Department Web site: http://www.justice.gov/enrd/consent-decrees. We will provide a paper copy of the Consent Decree upon written request and payment of reproduction costs. Please mail your request and payment to: Consent Decree Library, U.S. DOJ—ENRD, P.O. Box 7611, Washington, DC 20044-7611.

Please enclose a check or money order for $9.50 (25 cents per page reproduction cost) payable to the United States Treasury. For a paper copy without the exhibits and signature pages, the cost is $6.25.

Randall M. Stone,
Acting Assistant Section Chief, Environmental Enforcement Section, Environment and Natural Resources Division.

[FR Doc. 2015-12586 Filed 5-22-15; 8:45 am]

BILLING CODE 4410-15-P